ENVIRONMENTAL PROTECTION AGENCY

[EPA-HQ-OEI-2008-0225; FRL-8735-1]

Agency Information Collection Activities; Submission to OMB for Review and Approval; Comment Request; Tribal Capacity: Determining the Capability To Participate in the National Environmental Information Exchange Network; EPA ICR No. 2299.01, OMB Control No. 2025—New

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request for a new collection. The ICR, which is abstracted below, describes the nature of the information collection and its estimated burden and cost.

DATES: Additional comments may be submitted on or before November 28, 2008.

ADDRESSES: Submit your comments, referencing Docket ID No. EPA-HQ-OEI-2008-0225, to (1) EPA online using www.regulations.gov (our preferred method), by e-mail to alvarez.karl@epa.gov, by mail to: EPA Docket Center, Environmental Protection Agency, Tribal Capacity: Determining the capability to participate in the National Environmental Information Exchange Network Program, Environmental Protection Agency, MC 2823T, 1200 Pennsylvania Ave., NW., Washington, DC 20460, or by hand delivery: EPA Docket Center, EPA West Bldg., Room 3334, 1301 Constitution Ave., NW., Washington, DC 20460. Such deliveries are only accepted during the Docket's normal hours of operation, and special arrangements should be made for deliveries of boxed information; and (2) OMB by mail to: Office of Information and Regulatory Affairs, Office of Management and Budget (OMB), Attention: Desk Officer for EPA, 725 17th Street, NW., Washington, DC 20503.

FOR FURTHER INFORMATION CONTACT: Karl Alvarez of OEI/OIC/IESD/IEPB at the Environmental Protection Agency, 1200 Pennsylvania Ave., NW. (MC 2823-T), Washington, DC 20460; telephone number: (202) 566-0989; fax number: (202) 566-1684; e-mail address: alvarez.karl@epa.gov.

SUPPLEMENTARY INFORMATION: EPA has submitted the following ICR to OMB for review and approval according to the procedures prescribed in 5 CFR 1320.12. On May 12, 2008 (73 FR 26983), EPA sought comments on this ICR pursuant to 5 CFR 1320.8(d). EPA received no comments during the comment period. Any additional comments on this ICR should be submitted to EPA and OMB within 30 days of this notice.

EPA has established a public docket for this ICR under Docket ID No. EPA-HQ-OEI-2008-0225, which is available for online viewing at www.regulations.gov, or in-person viewing at the EPA Docket Center (EPA/DC), EPA West, Room 3334, 1301 Constitution Ave., NW., Washington, DC. The EPA/DC Public Reading Room is open from 8 a.m. to 4:30 p.m., Monday through Friday, excluding legal holidays. The telephone number for the Reading Room is (202) 566-1744, and the telephone number for the Tribal Capacity: Determining the Capability to Participate in the National Environmental Information Exchange Network Program Docket is (202) 566-0989.

Use EPA's electronic docket and comment system at www.regulations.gov, to submit or view public comments, access the index listing of the contents of the docket, and to access those documents in the docket that are available electronically. Once in the system, select “docket search,” then key in the docket ID number identified above. Please note that EPA's policy is that public comments, whether submitted electronically or on paper, will be made available for public viewing at www.regulations.gov as EPA receives them and without change, unless the comment contains copyrighted material, confidential business information (CBI), or other information whose public disclosure is restricted by statute. For further information about the electronic docket, go to www.regulations.gov.

Title: Tribal Capacity: Determining the Capability to Participate in the National Environmental Information Exchange Network Program.

ICR numbers: EPA ICR No. 2299.01, OMB Control No. 2025—new.

ICR Status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The Environmental Information Exchange Network (Exchange Network) is an Internet-based approach for exchanging environmental data among partners (e.g., EPA, states, tribes and territories). Built on the principles of applying data standards; providing secure, real-time access; and electronically collecting and storing accurate information, the Exchange Network enables participants to control and manage their own data while making it available to partners via requests over a secure Internet connection. By facilitating the efficient exchange of environmental information among interested parties at all levels of government, the Exchange Network has begun to transform the way information is shared.

While some Indian Tribes have been active partners in the Exchange Network, overall tribal participation is limited. EPA has issued grants that fund infrastructure and other support needed to share data on the network to just over 50 tribes or less than 10 percent of the more than 500 federally recognized tribes. Of these, eight have exchanged data over the network and another five are developing the infrastructure required to do so.

To expand tribal participation in the Exchange Network, EPA has been working with the National Congress of American Indians (NCAI) under a series of cooperative agreements. NCAI is planning to conduct a baseline assessment survey to obtain data to help identify barriers and other factors that are limiting tribal participation in the Network. The survey will focus on gathering information related to collection and dissemination of environmental data; information technology infrastructure, capacity, and needs; and awareness of the Exchange Network. The survey will be distributed to all federally recognized tribes that are members of NCAI. Response to the survey is voluntary. NCAI will use the findings of this survey to design programs to broaden tribal participation.

Burden Statement: The annual public reporting and recordkeeping burden for this collection of information is estimated to average 30 minutes per response.

• Estimated total number of potential respondents: 250

• Frequency of response: Once.

• Estimated total average number of responses for each respondent: One.

• Estimated total annual burden hours: 125 hours.

• Estimated annual capital and operations and maintenance costs: $0.

Dated: October 22, 2008.
Deborah Williams,
Acting Director, Collection Strategies Division.

[FR Doc. E8-25677 Filed 10-27-08; 8:45 am]

BILLING CODE 6560-50-P